SURFACE TRANSPORTATION BOARD

[Docket No. FD 36717]

OmniTRAX SBVR, LLC d/b/a South Branch Valley Railroad—Operation Exemption—Railroad Line of West Virginia State Rail Authority in Hampshire, Hardy, and Grant Counties, W. Va.

OmniTRAX SBVR, LLC d/b/a South Branch Valley Railroad (OSL), a noncarrier controlled by short line holding company OmniTRAX Holdings Combined, Inc. (OmniTRAX), has filed a verified notice of exemption under 49 CFR 1150.31 to assume operations over approximately 52.4 miles of rail line, extending from milepost 0.0 at Green Spring, W. Va., to milepost 52.4 at Petersburg, W. Va., located in Hampshire, Hardy, and Grant Counties, W. Va. (the Line).¹

¹ OSL initially filed its verified notice on August 14, 2023. By order served September 8, 2023, the effective dates of the exemptions in this docket and in the related Docket No. FD 36716 were postponed pending further Board order to allow for further briefing and consideration of certain issues. On September 13, 2023, OSL filed an amended verified notice of exemption in Docket No. FD 36717 addressing the issues raised in the September 8 order.

The Line is owned and currently operated by the West Virginia State Rail Authority (Rail Authority). OSL states that it has reached an agreement with the Rail Authority (Agreement) under which OSL will replace the Rail Authority as the operator on the Line. OSL states that the Rail Authority will retain ownership of, and a residual common carrier obligation over, the Line post-transaction.

This transaction is related to the verified notice of exemption filed in OmniTRAX Holdings Combined, Inc.—Continuance in Control Exemption—OmniTRAX SBVR, LLC, Docket No. FD 36716, in which OmniTRAX and HGS Railway Holdings, Inc., seek to continue in control of OSL upon OSL's becoming a Class III rail carrier.

OSL certifies that its projected annual revenues will not exceed $5 million and will not result in OSL's becoming a Class I or Class II rail carrier. OSL further certifies that it is not contractually limited in its ability to interchange traffic with any third-party connecting carrier.

The effective date of this exemption is October 11, 2023. If the verified notice contains false or misleading information, the exemption is void ab initio. Petitions to revoke the exemption under 49 U.S.C. 10502(d) may be filed at any time. The filing of a petition to revoke will not automatically stay the effectiveness of the exemption. Petitions for stay must be filed no later than October 4, 2023 (at least seven days before the exemption becomes effective).

All pleadings, referring to Docket No. FD 36717, must be filed with the Surface Transportation Board either via e-filing on the Board's website or in writing addressed to 395 E Street SW, Washington, DC 20423-0001. In addition, a copy of each pleading must be served on OSL's representative, Robert A. Wimbish, Fletcher & Sippel LLC, 29 North Wacker Drive, Suite 800, Chicago, IL 60606-3208.

According to OSL, this action is categorically excluded from environmental review under 49 CFR 1105.6(c)(2), and from historic preservation reporting requirements under 49 CFR 1105.8(b)(1).

Board decisions and notices are available at www.stb.gov.

Decided: September 21, 2023.
By the Board, Scott M. Zimmerman, Acting Director, Office of Proceedings.
Raina White,
Clearance Clerk.

[FR Doc. 2023-21076 Filed 9-26-23; 8:45 am]

BILLING CODE 4915-01-P